DEPARTMENT OF COMMERCE

Foreign-Trade Zones Board

[S-32-2013]

Foreign-Trade Zone 35—Philadelphia, Pennsylvania; Application for Subzone; Teva Pharmaceuticals USA, Inc.; North Wales, Chalfont, Kutztown and Sellersville, Pennsylvania

An application has been submitted to the Foreign-Trade Zones Board (the Board) by the Philadelphia Regional Port Authority, grantee of FTZ 35, requesting special-purpose subzone status for the facilities of Teva Pharmaceuticals USA, Inc., located in North Wales, Chalfont, Kutztown and Sellersville, Pennsylvania. The application was submitted pursuant to the provisions of the Foreign-Trade Zones Act, as amended (19 U.S.C. 81a-81u), and the regulations of the Board (15 CFR part 400). It was formally docketed on March 18, 2013.

The proposed subzone would consist of the following sites: Site 1 (38 acres) 1070 and 1090 Horsham Road, North Wales, Montgomery County; Site 2 (29 acres) 111 New Britain Boulevard, Chalfont, Bucks County; Site 3 (7 acres) 9747 Commerce Circle, Kutztown, Lehigh County; and, Site 4 (63 acres) 650 and 717 Cathill Road, Sellersville, Bucks County. No authorization for production activity has been requested at this time. The proposed subzone would be subject to the existing activation limit of FTZ 35.

In accordance with the Board's regulations, Elizabeth Whiteman of the FTZ Staff is designated examiner to review the application and make recommendations to the Executive Secretary.

Public comment is invited from interested parties. Submissions shall be addressed to the Board's Executive Secretary at the address below. The closing period for their receipt is May 1, 2013. Rebuttal comments in response to material submitted during the foregoing period may be submitted during the subsequent 15-day period to May 16, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Elizabeth Whiteman at Elizabeth.Whiteman@trade.gov or (202) 482-0473.

Dated: March 18, 2013.
Andrew McGilvray,
Executive Secretary.

[FR Doc. 2013-06665 Filed 3-21-13; 8:45 am]

BILLING CODE P